NEIGHBORHOOD REINVESTMENT CORPORATION

Sunshine Act Meetings

TIME AND DATE: 2:00 p.m., Thursday, December 15, 2022.

PLACE: 1255 Union Street NE, Fifth Floor, Washington, DC 20002.

STATUS: Parts of this meeting will be open to the public. The rest of the meeting will be closed to the public.

MATTERS TO BE CONSIDERED: Regular Board of Directors meeting.

The General Counsel of the Corporation has certified that in his opinion, one or more of the exemptions set forth in the Government in the Sunshine Act, 5 U.S.C. 552b(c)(2) and (4) permit closure of the following portion(s) of this meeting:

• Executive Session

Agenda

I. CALL TO ORDER

II. Sunshine Act Approval of Notice to Proceed Without One Week Notice

III. Sunshine Act Approval of Executive (Closed) Session

IV. Executive Session Special Topic

V. Executive Session Report from CEO

VI. Executive Session: Report from CFO

VII. Executive Session: General Counsel Report

VIII. NeighborWorks Compass Update

IX. Action Item Approval of Minutes

X. Discussion Item November 18, 2022 Audit Committee Report

XI. Discussion Item Future of NeighborWorks Training

XII. Discussion Item Report from CIO

XIII. Discussion Item DC Office Relocation Update

XIV. Management Program Background and Updates

XV. Adjournment

PORTIONS OPEN TO THE PUBLIC: Everything except the Executive Session.

PORTIONS CLOSED TO THE PUBLIC: Executive Session.

CONTACT PERSON FOR MORE INFORMATION: Lakeyia Thompson, Special Assistant, (202) 524-9940; Lthompson@nw.org.

Lakeyia Thompson,
Special Assistant.

[FR Doc. 2022-27551 Filed 12-15-22; 11:15 am]

BILLING CODE 7570-02-P